DEPARTMENT OF TRANSPORTATION

Federal Aviation Administration

[Policy Statement No. ANE-2000-33.94-R0]

Policy for Use of Structural Dynamic Analysis Methods for Blade Containment and Rotor Unbalance Tests

AGENCY: Federal Aviation Administration, DOT.

ACTION: Notice of availability; policy statement.

SUMMARY: The Federal Aviation Administration (FAA) announces the availability of policy for evaluating the use of structural dynamic analysis methods for blade containment and rotor unbalance tests.

DATES: The FAA issued policy statement number ANE-2000-33.94-R0 on March 8, 2001.

FOR FURTHER INFORMATION CONTACT: Jay Turnberg, FAA, Engine and Propeller Standards Staff, ANE-110, 12 New England Executive Park, Burlington, MA 01803; e-mail: jay.turnberg@faa.gov; telephone: (781) 238-7116; fax: (781) 238-7199. The policy statement is available on the Internet at the following address: http://www.faa.gov/avr/air/ane/ane110/hpage.htm. If you do not have access to the Internet, you may request a copy of the policy by contacting the individual listed in this section.

SUPPLEMENTARY INFORMATION: The FAA published a notice in the Federal Register on January 10, 2001 (66 FR 2043) to announce the availability of the proposed policy and invite interested parties to comment.

Background

Engine manufacturers are developing and using various types of structural dynamic analysis methods to support both engine certification activities and aircraft manufacturers' certification activities. The FAA has developed policy to provide guidance for evaluating the use of structural dynamic analysis methods to show compliance with the requirements of § 33.94 of Title 14 of the Code of Federal Regulations, “Blade containment and rotor unbalance tests.” This policy specifically addresses paragraph (a) of § 33.94 for engine design and configuration changes. This policy does not create any new requirements.

Authority: 49 U.S.C 106(g), 40113, 44701-44702, 44704.

Issued in Burlington, Massachusetts, on March 9, 2001.
Jay J. Pardee,
Manager, Engine and Propeller Directions, Aircraft Certification Service.

[FR Doc. 01-6702 Filed 3-16-01; 8:45 am]

BILLING CODE 4910-13-M